DEPARTMENT OF JUSTICE

Notice of Lodging of Consent Decree Under the Clean Water Act

Under 28 CFR 50.7, notice is hereby given that on March 5, 2002, a proposed consent decree in United States and Ohio v. City of Youngstown, Ohio, Civil Action No. 4:98 CV 2438, was lodged with the United States District Court for the Northern District of Ohio.

In this action, the United States sought injunctive relief and civil penalties under Section 309(b) and (d) of the Clean Water Act (“the Act”), 33 U.S.C. 1319(b) and (d), against the City of Youngstown, Ohio, (“Youngstown”) for violations of Section 301 of the Act, 33 U.S.C. 1311, and the terms and conditions of Youngstown's National Pollutant Discharge Elimination System (“NPDES”) permits at Youngstown's wastewater treatment plant and throughout its sewer collection system. The Complaint alleges that Youngstown violated the Clean Water Act and its applicable NPDES permits by failing to meet certain permit deadlines, failing to comply with effluent limitations in its permits, discharging wastewater and raw sewage through unpermitted point sources, failing to monitor its discharges in accordance with its permit requirements, and failing to notify the regulatory agencies of missed deadlines.

The proposed Clean Water Act consent decree provides for injunctive relief consisting of the following: (1) Elimination of the overflow point known as outfall 6108 at the Orchard Meadow area of Mill Creek Park; (2) elimination of certain specified direct discharges of sanitary sewage and process wastewater that are not currently connected to the Youngstown collection system; (3) development and implementation of Youngstown's long term control plan as required by its discharge permit; (4) removal of accumulated sewer sediments in the Mill Creek collector; (5) short-term improvements to Youngstown's collection system maintenance programs, documentation, and data management; (6) an evaluation of Youngstown's collection system maintenance programs and data management and proposed improvements; (7) replacement of the Meadowbrook pump station and the Lansdowne pump station and evaluation of additional upgrades at the Dry Run pump station; (8) implementation of a revised inspection schedule for combined sewer overflows; (9) implementation of measures to reduce vandalism at manholes within the collection system; and (10) installation of additional level sensing equipment at certain specified overflow structures. In addition, Youngstown will pay a civil penalty of $60,000, to be split evenly between the United States and its co-plaintiff the State of Ohio, to resolve the claims in the Complaint.

The Department of Justice will receive, for a period of thirty (30) days from the date of this publication, comments relating to the proposed consent decree. Comments should be addressed to the Assistant Attorney General, Environment and Natural Resources Division, P.O. Box 7611, U.S. Department of Justice, Washington, DC 20044-7611, and should refer to United States and Ohio v. City of Youngstown, DOJ Ref. #90-5-1-1-4383.

The proposed consent decree may be examined at the office of the United States Attorney for the Northern District of Ohio, 1800 Bank One Center, 600 Superior Avenue East, Cleveland, Ohio 44114, and at U.S. EPA Region 5, 77 West Jackson Boulevard, Chicago, IL 60604. A copy of the Consent Decree may also be obtained by mail from the Consent Decree Library, P.O. Box 7611, U.S. Department of Justice, Washington, DC 20044-7611, or by faxing a request to Tonia Fleetwood, fax no. (202) 514-0097 phone confirmation number (202) 514-1547. In requesting a copy, please refer to the referenced case and enclose a check in the amount of $9.75 (25 cents per page reproduction costs), payable to the U.S. Treasury.

William D. Brighton,
Assistant Chief, Environment Enforcement Section, Environment and Natural Resources Division.

[FR Doc. 02-7026 Filed 3-22-02; 8:45 am]

BILLING CODE 4410-15-M